Proclamation 7686 of June 13, 2003

Father's Day, 2003

By the President of the United States of America

A Proclamation

Fatherhood is one of life's most challenging yet fulfilling endeavors. On Father's Day, we honor America's fathers and express our appreciation for all they do to help build a strong foundation for our children and our Nation. We also reaffirm our commitment to supporting fathers and encouraging responsible fatherhood in our society.

Fathers have indispensable roles to play in the lives of their children: provider, protector, nurturer, teacher, and friend. Every caring father unconditionally loves his sons and daughters and strives for the best for his children in the future. In seeking to give their children the opportunity to succeed, fathers offer needed strength, guidance, and discipline.

Fathers teach their children many basic things in life: how to read a book, throw a ball, tie a necktie, ride a bike, or drive a car. More importantly, they also help instill time- honored values in their children, such as hard work, respect, honesty, and good citizenship. Through their words, actions, and sacrifices, fathers play an important role in shaping the characters of their sons and daughters.

The time and attention that a father gives to a child is irreplaceable—there is no substitute for the involvement and commitment of a responsible father. Not only are fathers essential to the healthy development of children, they also influence the strength of families and the stability of communities.

For this reason, our Government is working to help fathers succeed in this challenging, but life-affirming, role. Over the last 2 years, my Administration has taken important steps to promote responsible fatherhood and encourage community-based initiatives that help them fulfill their important roles. We are working to provide funds for healthy marriage and parenting education and for community mentoring programs to help fathers become more engaged and involved in their children's lives.

This Father's Day, we recognize the many fathers who are heroes and role models for their children, and we encourage more men to fulfill this responsibility by loving their sons and daughters with all their heart and demonstrating this love daily. By working together to encourage America's fathers, we can strengthen our society and help ensure the well-being of all our children.

NOW, THEREFORE, I, GEORGE W. BUSH, President of the United States of America, in accordance with a joint resolution of the Congress approved April 24, 1972, as amended (36 U.S.C. 109), do hereby proclaim June 15, 2003, as Father's Day. I encourage all Americans to express love, admiration, and thanks to their fathers for their contributions to our lives and to society. I direct the appropriate officials of the Government to display the flag of the United States on all Government buildings on this day. I also call upon State and local governments and citizens to observe this day with appropriate programs, ceremonies, and activities.

IN WITNESS WHEREOF, I have hereunto set my hand this thirteenth day of June, in the year of our Lord two thousand three, and of the Independence of the United States of America the two hundred and twenty-seventh.

B

[FR Doc. 03-15540

Filed 6-17-03; 8:45 am]

Billing code 3195-01-P